DEPARTMENT OF TRANSPORTATION

Federal Aviation Administration

Membership in the National Parks Overflights Advisory Group

AGENCY: Federal Aviation Administration, (FAA), DOT.

ACTION: Solicitation of applications.

SUMMARY: By Federal Register notice on January 7, 2022 the Federal Aviation Administration (FAA) and the National Park Service (NPS) invited interested persons to apply to fill one existing and two upcoming vacancies on the National Parks Overflights Advisory Group (NPOAG). This notice informs the public of the selection made for the two upcoming vacancies representing Native American and general aviation concerns. No selection was made for the existing opening representing Native American tribal concerns so this notice also invites persons interested in that opening to apply.

DATES: Persons interested in applying for the NPOAG opening representing Native American concerns will need to apply by March 31, 2022.

FOR FURTHER INFORMATION CONTACT: Keith Lusk, Special Programs Staff, Federal Aviation Administration, Western-Pacific Region Headquarters, 777 S. Aviation Boulevard, Suite 150, El Segundo, CA 90245, telephone: (424) 405-7017, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Current members of the NPOAG are as follows:

Melissa Rudinger representing general aviation with one upcoming opening due to Melissa Rudinger's 3 year term ending; John Becker, James Viola, and Eric Lincoln representing commercial air tour operators; Dick Hingson, Les Blomberg, Robert Randall, and John Eastman representing environmental interests; and Carl Slater representing Native American tribes with one current opening and one upcoming opening due to Carl Slater's 3 year term ending.

Selections

Murray Huling has been chosen for a 3-year term to represent general aviation concerns. NPOAG members' 3-year terms commence on the publication date of this Federal Register notice. Carl Slater was selected for another 3 year term to represent Native American concerns. No selection was made for the other current opening to represent Native American concerns. The FAA and NPS invite persons interested in applying for this remaining opening on the NPOAG to contact Mr. Keith Lusk (contact information is written above in FOR FURTHER INFORMATION CONTACT). Requests to serve on the NPOAG must be made to Mr. Lusk in writing and postmarked or emailed on or before March 31, 2022. The request should indicate whether or not you are a member of, or have an affiliation with, a federally recognized Native American tribe. The request should also state what expertise you would bring to the NPOAG as related to issues and concerns with aircraft flights over national parks and/or tribal lands. The term of service for NPOAG members is 3 years. Current members may re-apply for another term. On August 13, 2014, the Office of Management and Budget issued revised guidance regarding the prohibition against appointing or not reappointing federally registered lobbyists to serve on advisory committees (79 FR 47482).

Therefore, before appointing an applicant to serve on the NPOAG, the FAA and NPS will require the prospective candidate to certify that they are not a federally registered lobbyist.

Issued in El Segundo, CA.
Keith Lusk,
Program Manager, Special Programs Staff, Western-Pacific Region.

[FR Doc. 2022-04214 Filed 2-28-22; 8:45 am]

BILLING CODE 4910-13-P